DEPARTMENT OF THE INTERIOR

National Park Service

[N6441; NPS-WASO-NAGPRA-NPS0040851; PPWOCRADN0-PCU00RP14.R50000]

Notice of Inventory Completion: College of Marin, Kentfield, CA

AGENCY: National Park Service, Interior.

ACTION: Notice.

SUMMARY: In accordance with the Native American Graves Protection and Repatriation Act (NAGPRA), the College of Marin has completed an inventory of human remains and associated funerary objects and has determined that there is a cultural affiliation between the human remains and associated funerary objects and Indian Tribes or Native Hawaiian organizations in this notice.

DATES: Repatriation of the human remains and associated funerary objects in this notice may occur on or after September 22, 2025.

ADDRESSES: Send written requests for repatriation of the human remains and associated funerary objects in this notice to Klaus Christiansen, College of Marin, 835 College Avenue, Kentfield, CA 94904, email kchristiansen@marin.edu.

SUPPLEMENTARY INFORMATION: This notice is published as part of the National Park Service's administrative responsibilities under NAGPRA. The determinations in this notice are the sole responsibility of the College of Marin, and additional information on the determinations in this notice, including the results of consultation, can be found in its inventory or related records. The National Park Service is not responsible for the determinations in this notice.

Abstract of Information Available

Human remains representing, at least, four individuals removed from CA-MRN-406 near Kentfield, California, have been identified. The 1,535 associated funerary objects are 22 projectiles points, 10 drills, 77 bifaces, 21 formed flake tools, eight flake tools, three core tools, 15 cores, 532 pieces of debitage, four millingstones, 22 mortars, one handstone, 40 pestles, three battered cobbles, two pitted stones, five miscellaneous ground stone implements, 16 charmstones, five stone pendants, two net weights, one stone bowl, two miscellaneous modified stone items, four bone buttons, one shell pendant, 151 fragments of faunal bone, 570 fragments of faunal shell, 12 quartz crystals, one fire-affected rock, two pieces of charcoal, one metal fragment, and two unmodified stones. The human remains and associated funerary objects were collected by College of Marin Professor Bruff in the early 1960s, College of Marin Professor McBeath in 1971, and during construction monitoring within the College of Marin Kenfield campus in 2009 by LSA Environmental Consultants.

A lot of 3,635 associated funerary objects removed from CA-MRN-697 near Novato, California, are one projectile point, two bifaces, seven flake tools, 19 cores, 208 pieces of debitage, one shell bead, three shell pendants, two modified bone implements, 75 fragments of bone, 3,022 shell fragments, three pieces of feces, two quartz crystals, five pieces of ochre, 68 pieces of ash, 46 unmodified stones, 102 pieces of charcoal, two burnt seeds, and 67 historic-era items including one barbed wire, four bullet casings, one cap, one cut nail and two other nails, one marble, one piece of porcelain, five pull tabs, one piece of wire, 25 pieces of glass, and 25 pieces of metal. The associated funerary objects were collected in 2008 and 2010 by LSA Environmental Consultants during construction monitoring within the within the Indian Valley College campus and transferred to the College of Marin Kentfield campus on March 19, 2015.

Human remains representing, at least, two individuals removed from P-21-002691 near Novato, California, have been identified. The 10 associated funerary objects are faunal bone fragments. The collection history of the human remains and associated funerary objects is unknown.

Human remains representing, at least, one individual removed from CA-MRN-192 near Novato, California, have been identified. The one associated funerary object is a clam shell disc bead. The collection history of the human remains and associated funerary object is unknown.

Human remains representing, at least, one individual removed from CA-MRN-365 near Novato, California, have been identified. The 2,919 associated funerary objects are 13 bifaces, one formed flake tool, 18 flake tools, 29 cores, 953 pieces of debitage, one millingstone, one pestle, 1,044 fragments of faunal bone, 852 fragments of faunal shell, three bags of baked clay, and four bags of charcoal. The human remains and associated funerary objects were collected in the 1960s by College of Marin Professor Bruff.

An associated funerary object removed from either CA-MRN-192 or MRN-365 near Novato, California, is an Olivella shell bead. The collection history of the associated funerary object is unknown.

Human remains representing, at least, 10 individuals removed from an unknown location have been identified at the College of Marin Kentfield campus. The collection history of the human remains is unknown.

A lot of two associated funerary objects removed from CA-MRN-11 near Mill Valley, California, were identified on display at the College of Marin Kenfield campus and are a core tool and a piece of faunal shell. The collection history of the associated funerary objects is unknown.

A lot of five associated funerary objects removed from CA-MRN-12 near Mill Valley, California, were identified on display at the College of Marin Kenfield campus and are a steatite/soapstone bead, one clam shell disc bead, two Olivella shell beads, and one steatite/soapstone ear piece. The collection history of the associated funerary objects is unknown.

An associated funerary object removed from CA-MRN-170 near Novato, California, was identified on display at the College of Marin Kenfield campus and is a biface. The collection history of the associated funerary object is unknown.

A lot of 19 associated funerary objects removed from either CA-MRN-407 or MRN-408 near Tiburon, California, were identified on display at the College of Marin Kenfield campus and are four formed flake tools, five flake tools, six cores, and four pieces of debitage. The collection history of the associated funerary objects is unknown.

A lot of 37 associated funerary objects removed from an unknown location were identified on display at the College of Marin Kenfield campus and are 11 projectile points, seven bifaces, one formed flake tool, one flake tool, one core, two mortars, three pestles, three shell beads, one charmstone, one stone pendant, five net weights, and one Haliotis sp. shell. The collection history of the associated funerary objects is unknown.

The College of Marin is unaware of any treatment of the total 8,165 associated funerary objects with pesticides, preservatives, or other substances that represent a potential hazard to the objects or to persons handling the objects.

Cultural Affiliation

Based on the information available and the results of consultation, cultural affiliation is reasonably identified by the geographical location or acquisition history of the human remains and associated funerary objects described in this notice.

Determinations

The College of Marin has determined that:

• The human remains described in this notice represent the physical remains of 18 individuals of Native American ancestry.

• The 8,165 objects described in this notice are reasonably believed to have been placed intentionally with or near individual human remains at the time of death or later as part of the death rite or ceremony.

• There is a connection between the human remains and associated funerary objects described in this notice and the Federated Indians of Graton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 22, 2025. If competing requests for repatriation are received, the College of Marin must determine the most appropriate requestor prior to repatriation. Requests for joint repatriation of the human remains and associated funerary objects are considered a single request and not competing requests. The College of Marin is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15972 Filed 8-20-25; 8:45 am]

BILLING CODE 4312-52-P